DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2006 Census Test, Group Quarters Validation/Advance Visit Operation.

Form Number(s): DD-351, DD-31, DD-352.

Agency Approval Number: None.

Type of Request: New collection.

Burden: 198 hours.

Number of Respondents: 720.

Avg Hours Per Response: 15 minutes.

Needs and Uses: The U.S. Census Bureau requests authorization from the Office of Management and Budget (OMB) to conduct the 2006 Census Test Group Quarters Validation/Advance Visit (GQV/AV) operation. The 2006 GQV/AV is one of two iterative tests planned to improve the enumeration of the group quarters population in the 2010 Census.

The Census Bureau must provide everyone in the United States—including persons who do not live in housing units—the opportunity to be counted. In Census 2000, we implemented a set of procedures designed to enumerate persons who live or stay in GQs, such as nursing homes, college residence halls, jails, and shelters for persons experiencing homelessness. In order to count these persons, we first developed a list of GQs using the Special Place Facility Questionnaire operation. This operation was designed to identify, verify, classify, and obtain pertinent enumeration information about every GQ prior to the enumeration of persons living in group quarters.

As a result of lessons learned from Census 2000, the Census Bureau implemented the Group Quarters Validation (GQV) operation in 2004 to develop methodologies that would improve the enumeration of the GQ population in the 2010 Census. In addition to developing a new questionnaire and revising definitions for some GQ types, the 2004 GQV operation evaluated new GQ address listing procedures. For the first time, the GQ address list was integrated with the housing unit address list, and the development of the GQ inventory was managed at the GQ level. This new operation replaced the Census 2000 Special Place Facility Questionnaire operation. The 2004 GQV operation was planned to develop new procedures that would verify and update the existing Census 2000 GQ inventory, as well as properly classify places with housing units that were potentially difficult to classify or that required special procedures (e.g., hotels/motels and assisted living facilities).

As part of ongoing planning for the 2010 Census, the Census Bureau now plans to conduct the 2006 Census Test GQV/AV operation. This operation is designed to incorporate lessons learned from the 2004 GQV operation and Census 2000 with the focus group research that we conducted on GQ definitions. The goal of the 2006 GQV/AV operation is to evaluate revised procedures and definitions designed to improve the classification and geocoding of GQs. The planned dates for the 2006 GQV/AV operation are December 5, 2005 through January 13, 2005.

Affected Public: Individuals or households; Business or other for-profit; Not-for-profit institutions.

Frequency: One Time.

Respondent's Obligation: Mandatory.

Legal Authority: Title 13 U.S.C. 141 and 193.

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: July 28, 2005.
Madeleine Clayton,
Management Analyst, Office of the Chief Information Officer.

[FR Doc. 05-15265 Filed 8-2-05; 8:45 am]

BILLING CODE 3510-07-P